DEPARTMENT OF AGRICULTURE

Food and Nutrition Service

Agency Information Collection Activities: Proposed Collection; Comment Request—An Assessment of the Roles and Effectiveness of Community-Based Organizations in the Supplemental Nutrition Assistance Program

AGENCY: Food and Nutrition Service, USDA.

ACTION: Notice.

SUMMARY: In accordance with the Paperwork Reduction Act of 1995, this notice invites the general public and other public agencies to comment on this proposed information collection. This is a new collection for the Food and Nutrition Service to describe the roles of community-based organizations (CBOs) in the Supplemental Nutrition Assistance Program (SNAP), and to assess if, and how, the use of CBOs to conduct SNAP applicant interviews has impacted SNAP program outcomes such as timeliness, payment error rates, access, and client satisfaction.

DATES: Written comments on this notice must be received on or before July 13, 2012.

ADDRESSES: Comments are invited on: (a) Whether the proposed collection of information is necessary for the proper performance of the functions of the agency, including whether the information will have practical utility; (b) the accuracy of the agency's burden estimate for the proposed collection of information, including the validity of the methodology and assumptions that were used; (c) ways to minimize the burden of the collection of information on those who are to respond, including use of appropriate automated, electronic, mechanical, or other technological collection techniques or other forms of information technology, and (d) ways to enhance the quality, utility and clarity of the information to be collected.

Written comments may be sent to: Steven Carlson, Office of Research and Analysis, Food and Nutrition Service, U.S. Department of Agriculture, 3101 Park Center Drive, Room 1014, Alexandria, VA 22302. Comments may also be submitted via fax to the attention of Steven Carlson at (703) 305-2576 or via email to Steve.Carlson@fns.usda.gov. Comments will also be accepted through the Federal eRulemaking Portal. Go to http://www.regulations,gov, and follow the online instructions for submitting comments electronically.

All written comments will be open for public inspection at the office of the Food and Nutrition Service during regular business hours (8:30 a.m. to 5:00 p.m., Monday through Friday) at 3101 Park Center Drive, Room 1014, Alexandria, Virginia 22302.

All responses to this notice will be summarized and included in the request for OMB approval. All comments will also become a matter of public record.

FOR FURTHER INFORMATION CONTACT: Requests for additional information or copies of this information collection should be directed to Steven Carlson at 703-305-2017. Information requests submitted through email should refer to the title of this proposal.

SUPPLEMENTARY INFORMATION: Title: An Assessment of the Roles and Effectiveness of Community-based Organizations in the Supplemental Nutrition Assistance Program.

OMB Number: 0584-NEW.

Form Number: Not Applicable.

Expiration Date: Not yet determined.

Type of Request: New collection of information.

Abstract: To provide more timely and efficient services to the growing number of applicants to SNAP, State and local SNAP offices are partnering with CBOs that have the capacity to provide application assistance and conduct applicant interviews for SNAP. FNS has approved these partnerships as part of a demonstration of “Community Partner Interviewer Projects.” Although these projects have existed for several years, they have never been fully evaluated. To assess the impact of these SNAP-CBO partnerships on SNAP program outcomes, FNS is seeking to collect data from the five States that are participating in the demonstration.

The overarching goal of this study is to determine whether the use of CBOs to conduct SNAP applicant interviews has an impact on SNAP program performance, and if so, what the nature of that impact is. Specific program outcomes of interest include efficiency, payment accuracy and client satisfaction. Additionally, FNS is interested in gathering information about variations among the partnering CBOs in terms of who they serve, what services they offer, how they provide SNAP related services, and the nature of their partnerships with local SNAP offices. To address these questions, FNS has specified the following objectives:

1. Describe the CBOs conducting SNAP interviews and the nature of their partnerships with State and local SNAP agencies.

2. Describe the response of State SNAP staff to the involvement of CBOs in conducting applicant interviews.

3. Describe the response of CBO interviewers to their involvement with SNAP.

4. Describe how the experiences of SNAP applicants who are interviewed by CBO staff compare to the experiences of SNAP applicants who are interviewed by SNAP staff.

5. Describe the services that the CBOs offer.

6. Document the impacts of CBOs conducting SNAP interviews on program outcomes.

The information collection plan for this study includes interviews with: (1) State SNAP directors; (2) CBO directors; (3) local SNAP office directors and SNAP staff who train or supervise CBO partners on SNAP policies and application procedures; (4) CBO site directors and staff who are responsible for conducting SNAP applicant interviews; and (5) SNAP participants who were interviewed by SNAP or CBO staff at the time of application or recertification for SNAP. FNS will use the information collected from these sources to evaluate whether the Community Partner Interviewer Projects have helped to improve SNAP access and performance, as well as to document the ways in which the projects have been implemented in different States (e.g., with specific populations or in specific types of partners).

FNS' data collection strategy aims to maximize both efficiency and data quality. The interviews with State SNAP Directors and CBO Directors will be conducted by telephone and will last no more than 1 hour. Following the telephone interviews, FNS seeks to conduct site visits to local SNAP offices and nearby CBO locations in each State. The site visits will provide the opportunity to conduct in-person interviews with local SNAP office directors, SNAP staff, local CBO site directors and CBO staff who have been trained to conduct SNAP applicant interviews.

In addition to the telephone and in-person interviews, FNS will request two administrative files from each State. One file will be used to analyze program outcomes such as timeliness and payment error rates. The other file will include records of SNAP participants who were interviewed at a local SNAP office or a partner CBO within the timeframe of the demonstration project. This file will be used to select the sample for a client satisfaction survey.

Affected Public: State and local government; business-not-for-profit institutions; individuals or households. Respondent groups identified include: (1) State SNAP Directors; (2) employees from selected local SNAP offices; (3) CBO Directors; (4) CBO staff; and (5) SNAP participants.

Estimated Number of Respondents: The total estimated number of respondents is 2,620 across all 5 States. This estimate includes: Completed telephone surveys with 2,500 SNAP participants (500 per State, but will recruit 750 per State to account for nonrespondents and ensure the targeted number is obtained); 5 telephone interviews with SNAP Directors (1 per State); 10 telephone interviews with CBO Directors (2 per State); 20 in-person interviews with local SNAP office directors (1 per office, with 4 offices per State); 20 in-person interviews with employees of local SNAP offices (1 per office, with 4 offices per State); 20 in-person interviews with local CBO site directors; 40 interviews with local CBO site staff/interviewers (2 per office, 4 offices per State); and requests for administrative data from 5 State SNAP personnel in charge of information technology (IT)/data (1 per State).

Estimated Number of Responses per Respondent: Each respondent will be asked to respond once.

Estimated Time per Respondent: The burden estimate for State SNAP Directors is 1.25 hours, and the burden estimate for CBO directors is 1.0 hour, including time to prepare for and complete the interview. For local SNAP office directors and local CBO site directors, the burden estimate is 1.5 hours, including time for scheduling the site visit, completing the interview, and coordinating the schedules of office staff to be interviewed. For SNAP office and CBO site staff, the burden estimate is 1.0 hour each. The burden estimate for SNAP participants to complete a survey is 0.3 hours (20 minutes), including time to review the advance letter, schedule an appointment, and complete the interview.

Estimated Total Annual Burden on Respondents: The total estimated burden on respondents is 750 hours for the SNAP participant surveys, 130 hours for State and CBO directors and staff members, and 45 hours for State SNAP IT staff (for providing administrative data files) for a total of 925 hours. See table below for a complete breakdown of burden hours. In addition, we estimate that 625 SNAP participants will be contacted but will decline participation in the survey. The burden estimate associated with these non-respondents, not shown in the table, is .08 hours each, for a total of 50 hours of burden on non-respondents.

Burden Estimates for Respondents
Type of respondent | Type of instrument | Number of respondents | Frequency of response | Total responses | Average burden per response (in hours) | Total burden (in hours)
State SNAP Director | Telephone interview | 5 | 1 | 5 | 1.25 | 6.25
Local SNAP Agency Director | In person interview | 20 (1 per office, 4 offices per State, 5 states) | 1 | 20 | 1.5 | 30
Local SNAP Agency Staff | In person interview | 20 (1 per office, 4 offices per State, 5 States) | 1 | 20 | 1 | 20
CBO Director | Telephone interview | 10 (2 per State, 5 States) | 1 | 10 | 1 | 10
Local CBO Site Director | In person interview | 20 (1 per office, 4 offices per State, 5 states) | 1 | 20 | 1.5 | 30
Local CBO Staff | In person interview | 40 (2 per office, 4 offices per State, 5 States) | 1 | 40 | 1 | 40
Adults (18+ years of age) | Telephone survey questionnaire | 2,500 (500 per State) (completed) | 1 | 2,500 | .3 | 750
Adults (18+ years of age) | Telephone survey questionnaire | 1,250 (250 per State) (Nonrespondent) | 1 | 1,250 | .05 | 1.04
State SNAP IT Staff | Administrative data file | 5 | 3 | 15 | 5 | 45
Total |  | 3,870 |  | 3,880 |  | 926.04

Dated: May 8, 2012.
Robin Bailey, Jr.,
Acting Administrator, Food and Nutrition Service.

[FR Doc. 2012-11589 Filed 5-11-12; 8:45 am]

BILLING CODE 3410-30-P